DEPARTMENT OF COMMERCE

International Trade Administration

[C-423-809]

Stainless Steel Plate in Coils From Belgium: Rescission of Countervailing Duty Administrative Review

AGENCY: Import Administration, International Trade Administration, Department of Commerce.

DATES: Effective Date: June 1, 2011.

FOR FURTHER INFORMATION CONTACT: Patricia Tran or Mary Kolberg, at (202) 482-1503 or (202) 482-1785, respectively; AD/CVD Operations, Office 1, Import Administration, International Trade Administration, U.S. Department of Commerce, 14th Street and Constitution Avenue, NW., Washington, DC 20230.

Background

On May 3, 2010, the Department of Commerce (“the Department”) published a notice announcing the opportunity to request an administrative review of the countervailing duty (“CVD”) order on stainless steel plate in coils from Belgium. See Antidumping or Countervailing Duty Order, Finding, or Suspended Investigation; Opportunity To Request Administrative Review, 75 FR 23236 (May 3, 2010). On May 28, 2010, we received a request for revocation of this order from the Government of Belgium (“GOB”) via administrative review. The request was filed in accordance with 19 CFR 351.222(e)(2). In accordance with 19 CFR 351.221(c)(1)(i), the Department published a notice initiating an administrative review of the CVD order on stainless steel plate in coils from Belgium covering the period January 1, 2009, through December 31, 2009. See Initiation of Antidumping and Countervailing Duty Administrative Reviews and Requests for Revocation in Part, 75 FR 37759 (June 30, 2010).

Rescission of Review

Pursuant to 19 CFR 351.213(d)(l), the Secretary will rescind an administrative review, in whole or in part, if the party that requested a review withdraws the request within 90 days of the date of publication of the notice of initiation of the requested review. On May 2, 2011, the GOB withdrew its request for the 2009 administrative review and for revocation of the CVD order on stainless steel plate in coils from Belgium, past the 90-day deadline. Pursuant to 19 CFR 351.213(d)(1), the Secretary may extend the 90-day time limit if it is reasonable to do so.

The Department determines it is reasonable to extend the 90-day deadline in this case. On May 5, 2011, the Department revoked this order effective July 18, 2010, in the second five-year (sunset) review of this order.¹ We revoked the order because we found all subsidy programs had been terminated and, thus, there was no likelihood of continuation or recurrence of countervailable subsidies. Although an administrative review of the 2009 period could be conducted for assessment purposes, a revocation proceeding is not warranted because any revocation of the order as the result of such a proceeding would occur with the publication of the final results, which would be after the July 18, 2010, effective date of the revocation pursuant to the sunset review.² In addition, as noted above, the GOB was the only party to request this review and included a request for revocation. Therefore, because the GOB sought revocation as part of its administrative review request, the order has already been revoked, and the Department has not dedicated extensive resources to this review, the Department finds that it is reasonable to rescind this administrative review even though the request was received after the 90-day period for withdrawals.

¹ See Stainless Steel Plate in Coils from Belgium: Final Results of Full Sunset Review and Revocation of the Countervailing Duty Order, 76 FR 25666 (May 5, 2011).

² The Department revoked this order effective July 18, 2010 as this was the fifth anniversary of the date of publication in the Federal Register of the most recent notice of continuation of this order in the first sunset review. See id.

Assessment

The Department will instruct U.S. Customs and Border Protection (“CBP”) to assess countervailing duties at the cash deposit rate in effect on the date of entry, for entries during the period January 1, 2009, through December 31, 2009. The Department intends to issue appropriate assessment instructions to CBP 15 days after the date of publication of this notice of rescission of administrative review. In addition, pursuant to an injunction issued in ArcelorMittal Stainless Belgium N.V. v. United States, CIT No. 08-00434, on January 16, 2009, modified on August 16, 2010, the Department must continue to suspend liquidation of certain entries pending a conclusive court decision in that action.

Notification Regarding Administrative Protective Order

This notice serves as a final reminder to parties subject to administrative protection order (“APO”) of their responsibility concerning the disposition of proprietary information disclosed under APO in accordance with 19 CFR 351.305(a)(3). Timely written notification of the return/destruction of APO materials or conversion to judicial protective order is hereby requested. Failure to comply with the regulations and terms of an APO is a sanctionable violation.

This determination is issued and published in accordance with sections 751(a)(l) and 777(i)(l) of the Tariff Act of 1930, as amended, and 19 CFR 351.213(d)(4).

Dated: May 25, 2011.
Christian Marsh,
Deputy Assistant Secretary for Antidumping and Countervailing Duty Operations.

[FR Doc. 2011-13574 Filed 5-31-11; 8:45 am]

BILLING CODE P